DEPARTMENT OF LABOR

Employment and Training Administration

Comment Request for the Extension With Minor Revisions of the Information Collection for Petition and Investigative Data Collection Requirements for the Trade Act of 1974, as Amended (OMB Control Number 1205-0342)

AGENCY: Employment and Training Administration (ETA), Department of Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the proposed extension, with minor revisions, of data collections using the ETA 9042A, Petition for Trade Adjustment Assistance (1205-0342), its Spanish translation ETA 9042a (1205-0342), and its On-Line version ETA 9042A-1 (1205-0342); ETA 9043a, Business Data Request—Article (1205-0342); ETA 9043b, Business Data Request—Service (1205-0342); ETA 8562a, Business Customer Survey (1205-0342); ETA 8562a, Business Customer Survey (1205-0342); ETA 85622a-1, Business Second Tier Customer Survey (1205-0342); ETA-8562b, Business Bid Survey (1205-0342); and ETA 9118, Business Information Request (1205-0342). The current expiration date is January 31, 2013.

DATES: Written comments must be submitted to the office listed in the addresses section below on or before November 5, 2012.

ADDRESSES: Submit written comments to Caroline Hertel, Office of Trade Adjustment Assistance, Room N-5428, Employment and Training Administration, U.S. Department of Labor, 200 Constitution Avenue NW., Washington, DC 20210. Telephone number: 202-963-3236 (this is not a toll-free number). Individuals with hearing or speech impairments may access the telephone number above via TTY by calling the toll-free Federal Information Relay Service at 1-877-889-5627 (TTY/TDD). Fax: 202-693-3584. Email: Hertel.Caroline@dol.gov. A copy of the proposed information collection request (ICR) can be obtained by contacting the office listed above.

SUPPLEMENTARY INFORMATION:

I. Background

Section 221(a) of Title II, Chapter 2 of the Trade Act of 1974, as amended by the Trade Act of 2002, authorizes the Secretary of Labor (Secretary) and the governor of each state to accept petitions for certification of eligibility to apply for Trade Adjustment Assistance (TAA). The petitions may be filed by a group of workers, their certified or recognized union or duly authorized representative including the employers of such workers and American Job Centers, sometimes known locally as One-Stop Career Centers or by a different name. ETA Form 9042A, Petition for Trade Adjustment Assistance and Alternative Trade Adjustment Assistance, its Spanish translation, ETA Form 9042A, Solicitud De Asistencia Para Ajuste, and the On-Line Petition for Trade Adjustment Assistance, ETA Form 9042A-1 establish a format that may be used for filing such petitions.

Sections 222, 223 and 249 of the Trade Act of 1974, as amended, require the Secretary to issue a determination for groups of workers as to their eligibility to apply for TAA. After reviewing all of the information obtained for each petition for TAA filed with the Department, a determination is issued as to whether the statutory criteria for certification are met. The information collected in ETA Form 9043a, Business Data Request—Article, ETA Form 9043b, Business Data Request—Service, ETA Form 9118, Business Information Request, ETA Form 8562a, Business Customer Survey, ETA form 85622a-1, Business Second Tier Customer Survey, ETA form 8562b, Business Bid Survey, will be used by the Secretary to determine to what extent, if any, increased imports or shifts in either service or production have impacted the petitioning worker group.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with minor revisions.

Title: Investigative Data Collections for the Trade Act of 1974, as amended

OMB Number: 1205-0342

Affected Public: Individuals or Households, Businesses, State, Local or Tribal Governments.

Form(s):

• ETA 9042A, Petition for Trade Adjustment Assistance (1205-0342), its Spanish translation ETA 9042a (1205-0342), and its On-Line version ETA 9042A-1 (1205-0342);

• ETA 9043a, Business Data Request—Article (1205-0342);

• ETA 9043b, Business Data Request—Service (1205-0342);

• ETA 8562a, Business Customer Survey (1205-0342);

• ETA 85622a-1, Business Second Tier Customer Survey (1205-0342);

• ETA-8562b, Business Bid Survey (1205-0342); and

• ETA 9118, Business Information Request (1205-0342).

Total Annual Respondents: 6,756.

Annual Frequency: Once.

Total Annual Responses: 8,355.

Average Time per Response: 2.18 Hours.

Estimated Total Annual Burden Hours: 17,882.

Total Annual Burden Cost for Respondents: $0.

Comments submitted in response to this comment request will be summarized and/or included in the request for Office of Management and Budget approval of the ICR; they will also become a matter of public record.

Signed in Washington, DC, on this 29th day of August, 2012.
Jane Oates,
Assistant Secretary for Employment and Training, Labor.

[FR Doc. 2012-21867 Filed 9-5-12; 8:45 am]

BILLING CODE 4510-FN-P